DEPARTMENT OF ENERGY

Federal Energy Regulatory Commission

Combined Notice of Filings #2

Take notice that the Commission received the following electric rate filings:

Docket Numbers: ER12-2405-001.

Applicants: Helvetia Solar, LLC.

Description: Helvetia Solar, LLC submits tariff filing per 35.17(b): Helvetia Substitute MBR Tariff to be effective 9/2/2012.

Filed Date: 8/20/12.

Accession Number: 20120820-5099.

Comments Due: 5 p.m. ET 9/10/12.

Docket Numbers: ER12-2469-001.

Applicants: PJM Interconnection, L.L.C.

Description: PJM Interconnection, L.L.C. submits tariff filing per 35.17(b): Errata to Correct Metadata in PJM Service Agreement No. 3383—to be effective 7/20/2012.

Filed Date: 8/20/12.

Accession Number: 20120820-5025.

Comments Due: 5 p.m. ET 9/10/12.

Docket Numbers: ER12-2477-000.

Applicants: Southern California Edison Company.

Description: GIA & Distribution Serv Agmt 1370-1420 Victoria St Proj-Carson Dominguez Prop to be effective 8/21/2012.

Filed Date: 8/20/12.

Accession Number: 20120820-5001.

Comments Due: 5 p.m. ET 9/10/12.

Docket Numbers: ER12-2478-000.

Applicants: Southern California Edison Company.

Description: GIA & Distribution Serv Agmt 1650 Glenn Curtis St Carson Proj-Carson Dominguez to be effective 8/21/2012.

Filed Date: 8/20/12.

Accession Number: 20120820-5002.

Comments Due: 5 p.m. ET 9/10/12.

Docket Numbers: ER12-2479-000.

Applicants: Southwest Power Pool, Inc.

Description: Southwest Power Pool, Inc. submits tariff filing per 35: Order No. 760 Compliance Filing—Electronic Delivery of Data to be effective 8/20/2012.

Filed Date: 8/20/12.

Accession Number: 20120820-5027.

Comments Due: 5 p.m. ET 9/10/12.

Docket Numbers: ER12-2480-000.

Applicants: Alcoa Power Generating Inc.

Description: Alcoa Power Generating Inc. submits tariff filing per 35.13(a)(2)(iii: Yadkin OATT Revisions August 2012 to be effective 8/20/2012.

Filed Date: 8/16/12.

Accession Number: 20120816-5121.

Comments Due: 5 p.m. ET 9/6/12.

Docket Numbers: ER12-2481-000

Applicants: New York Independent System Operator, Inc.

Description: New York Independent System Operator, Inc. submits tariff filing per 35: NYISO OATT Revisions in Compliance with Order No. 760 to be effective 3/4/2013.

Filed Date: 8/20/12.

Accession Number: 20120820-5052.

Comments Due: 5 p.m. ET 9/10/12.

Docket Numbers: ER12-2483-000.

Applicants: Kentucky Utilities Company.

Description: Kentucky Utilities Company Notice of Termination Estill County Generator Interconnection Agreement.

Filed Date: 8/20/12.

Accession Number: 20120820-5044.

Comments Due: 5 p.m. ET 9/10/12.

Docket Numbers: ER12-2484-000.

Applicants: LVI Power, LLC.

Description: LVI Power, LLC submits tariff filing per 35.12: Petition for Acceptance of Initial Tariff to be effective 8/21/2012.

Filed Date: 8/20/12.

Accession Number: 20120820-5089.

Comments Due: 5 p.m. ET 9/10/12.

Docket Numbers: ER12-2485-000.

Applicants: ISO New England Inc., New England Power Pool Participants Committee.

Description: ISO New England Inc. submits tariff filing per 35.13(a)(2)(iii: Revisions to MR1 to Forward Reserve Threshold Price to be effective 11/1/2012.

Filed Date: 8/20/12.

Accession Number: 20120820-5100.

Comments Due: 5 p.m. ET 9/10/12.

Docket Numbers: ER12-2486-000.

Applicants: PJM Interconnection, L.L.C.

Description: PJM Interconnection, L.L.C. submits tariff filing per 35: Compliance Filing per FERC Order No. 760 requirements under RM11-17 to be effective 10/19/2012.

Filed Date: 8/20/12

Accession Number: 20120820-5101

Comments Due: 5 p.m. ET 9/10/12.

Take notice that the Commission received the following land acquisition reports:

Docket Numbers: LA12-2-000

Applicants: Niagara Generation, LLC.

Description: Quarterly Land Acquisition Report of Niagara Generation, LLC for second quarter 2012.

Filed Date: 8/20/12.

Accession Number: 20120820-5090.

Comments Due: 5 p.m. ET 9/10/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2012.
Nathaniel J. Davis, Sr.,
Deputy Secretary.

[FR Doc. 2012-21133 Filed 8-27-12; 8:45 am]

BILLING CODE 6717-01-P